DEPARTMENT OF THE TREASURY

Alcohol and Tobacco Tax and Trade Bureau

[Docket No. TTB-2016-0001]

Proposed Information Collections; Comment Request (No. 60)

AGENCY: Alcohol and Tobacco Tax and Trade Bureau (TTB); Treasury.

ACTION: Notice and request for comments.

SUMMARY: As part of our continuing effort to reduce paperwork and respondent burden, and as required by the Paperwork Reduction Act of 1995, we invite comments on the proposed or continuing information collections listed below in this notice.

DATES: We must receive your written comments on or before October 21, 2016.

ADDRESSES: As described below, you may send comments on the information collections listed in this document using the “Regulations.gov” online comment form for this document, or you may send written comments via U.S. mail or hand delivery. TTB no longer accepts public comments via email or fax.

• http://www.regulations.gov: Use the comment form for this document posted within Docket No. TTB-2016-0001 on “Regulations.gov,” the Federal e-rulemaking portal, to submit comments via the Internet;

• U.S. Mail: Michael Hoover, Regulations and Rulings Division, Alcohol and Tobacco Tax and Trade Bureau, 1310 G Street NW., Box 12, Washington, DC 20005.

• Hand Delivery/Courier in Lieu of Mail: Michael Hoover, Alcohol and Tobacco Tax and Trade Bureau, 1310 G Street NW., Suite 400, Washington, DC 20005.

Please submit separate comments for each specific information collection listed in this document. You must reference the information collection's title, form or recordkeeping requirement number, and OMB number (if any) in your comment.

You may view copies of this document, the information collections listed in it and any associated instructions, and all comments received in response to this document within Docket No. TTB-2016-0001 at https://www.regulations.gov. A link to that docket is posted on the TTB Web site at https://www.ttb.gov/forms/comment-on-form.shtml. You may also obtain paper copies of this document, the information collections described in it and any associated instructions, and any comments received in response to this document by contacting Michael Hoover at the addresses or telephone number shown below.

FOR FURTHER INFORMATION CONTACT: Michael Hoover, Alcohol and Tobacco Tax and Trade Bureau, 1310 G Street NW., Box 12, Washington, DC 20005; telephone 202-453-1039, ext. 135; or email informationcollections@ttb.gov (please do not submit comments on this notice to this email address).

SUPPLEMENTARY INFORMATION:

Request for Comments

The Department of the Treasury and its Alcohol and Tobacco Tax and Trade Bureau (TTB), as part of their continuing effort to reduce paperwork and respondent burden, invite the general public and other Federal agencies to comment on the proposed or continuing information collections listed below in this notice, as required by the Paperwork Reduction Act of 1995 (44 U.S.C. 3501 et seq.).

Comments submitted in response to this notice will be included or summarized in our request for Office of Management and Budget (OMB) approval of the relevant information collection. All comments are part of the public record and subject to disclosure. Please do not include any confidential or inappropriate material in your comments.

For each information collection listed below, we invite comments on: (a) Whether the information collection is necessary for the proper performance of the agency's functions, including whether the information has practical utility; (b) the accuracy of the agency's estimate of the information collection's burden; (c) ways to enhance the quality, utility, and clarity of the information collected; (d) ways to minimize the information collection's burden on respondents, including through the use of automated collection techniques or other forms of information technology; and (e) estimates of capital or start-up costs and costs of operation, maintenance, and purchase of services to provide the requested information.

Information Collections Open for Comment

Currently, we are seeking comments on the following information collections (forms, recordkeeping requirements, or questionnaires):

Title: Marks on Equipment and Structures (TTB REC 5130/3), and Marks and Labels on Containers of Beer (TTB REC 5130/4).

OMB Number: 1513-0086.

TTB Recordkeeping Numbers: REC 5130/3 and 5130/4.

Abstract: Under the authority of chapter 51 of the Internal Revenue Code of 1986, as amended (26 U.S.C. chapter 51), the TTB regulations require marks, signs, and suitable measuring devices on brewery equipment and structures in order to identify the use and capacity of brewery equipment and structures, tank contents, and taxpaid and nontaxpaid beer. To identify products for purposes of administering the IRC's excise tax provisions, the TTB regulations also require marks, brands, and labels on kegs, cans, bottles, and cases of beer. These marks, brands, and labels identify the name or trade name of the brewer, the place of production of the beer, the contents of the container, and the nature of the product (beer, ale, etc.).

Current Actions: TTB is submitting this collection as a revision. The information collection remains unchanged. However, TTB is increasing the estimated number of respondents due to an increase in the number of brewers regulated by TTB. While TTB is increasing the number or respondents, there is no increase in the estimated total annual burden hours for this information collection because markings on and suitable measuring devices for brewery equipment and structures and marking and labeling containers of beer are usual and customary business practices, and would be undertaken even without the TTB regulatory requirements to do so.

Type of Review: Revision of a currently approved collection.

Affected Public: Businesses and other for-profits.

Estimated Number of Respondents: 5,864.

Estimated Total Annual Burden Hours: 1 (one).

Title: Formula and Process for Domestic and Imported Alcohol Beverages.

OMB Number: 1513-0122.

TTB Form Number: TTB F 5100.51.

Abstract: TTB F 5100.51 (in all formats, including its online equivalent completed using Formulas Online (FONL)) is used by industry members to obtain approval of formulas for alcohol beverage products where the TTB regulations require such approval. The form collect information regarding the person filing, the type of product made, the ingredients used, and the manufacturing process. TTB uses the collected information to ensure appropriate classification of distilled spirits, wine, and malt beverages for labeling and taxation purposes.

Current Actions: TTB is submitting this collection as a revision. TTB F 5100.51 (in all formats, including the FONL version) remains unchanged. However, TTB is adding an additional information collection instrument to this information collection request, the Flavor Ingredient Data Sheet (FIDS). TTB provides the FIDS for respondents to use to disclose the ingredients of certain flavors used in the formulas they submit to TTB for approval. The FIDS helps TTB identify the flavors used for labeling and taxation purposes. Respondents will submit the FIDS as supplemental documents to their paper or online entries. We also are increasing the number of respondents to reflect an increase in the number of alcohol beverage industry members submitting formula requests to TTB, and we are increasing the estimated total annual burden hours to reflect that increase and the addition of the FIDS to this information collection request.

Type of Review: Revision of a currently approved collection.

Affected Public: Businesses or other for-profits.

Estimated Number of Respondents: 3,000.

Estimated Total Annual Burden Hours: 34,320.

Title: Surveys for Applications, Permits Online (PONL), Formulas Online (FONL), and COLAs (Certificates of Label Approval) Online.

OMB Number: 1513-0124.

TTB Form Number: None.

Abstract: As part of our efforts to improve customer service, TTB surveys its customers who apply for original or amended permits, submit formula approval requests, and submit requests for certificates of label approval. These surveys assist TTB in identifying potential customer needs and problems, as well as opportunities for improvement in our applications processes, with particular focus on our customers' experiences with TTB's various electronic application systems.

Current Actions: TTB is submitting this collection as a revision. The surveys approved under this OMB control number remain unchanged. However, TTB intends to increase the number of customers it surveys on an annual basis and is, therefore, increasing the number of respondents and the resulting burden hours associated with this information collection. Participation in TTB customer satisfaction surveys is voluntary.

Type of Review: Revision of a currently approved collection.

Affected Public: Businesses and other for-profits; individuals.

Estimated Number of Respondents: 50,000.

Estimated Total Annual Burden Hours: 25,000.

Title: Generic Clearance for the Collection of Qualitative Feedback on Agency Service Delivery.

OMB Number: 1513-0132.

TTB Form Number: None.

Abstract: This collection of information is necessary to enable TTB to obtain customer and stakeholder feedback in an efficient, timely manner, in accordance with our commitment to improving service delivery. The information collected from our customers and stakeholders through surveys, usability tests, focus groups, and other evaluative tools approved under this information collection will help ensure that TTB customers and stakeholders have effective, efficient, and satisfying experiences with TTB's programs and Web site.

Current Actions: TTB is submitting this collection as a revision. TTB intends to increase its use of surveys, usability tests, focus groups, and other tools it uses to obtain customer and stakeholder feedback in order to improve its service delivery, programs, and Web site. As a result, TTB is increasing the number of respondents and the resulting burden hours associated with this information collection. Participation in TTB surveys, usability tests, focus groups, and other evaluative tools is voluntary.

Type of Review: Revision of a currently approved collection.

Affected Public: Businesses and other for-profits; Non-profits; individuals.

Estimated Number of Respondents: 30,000.

Estimated Total Annual Burden Hours: 30,000.

Dated: August 17, 2016.
Amy R. Greenberg,
Director, Regulations and Rulings Division.

[FR Doc. 2016-19955 Filed 8-19-16; 8:45 am]

BILLING CODE 4810-31-P